DEPARTMENT OF COMMERCE

National Oceanic and Atmospheric Administration

RIN 0648-AV00

Atlantic Highly Migratory Species; Essential Fish Habitat

AGENCY: National Marine Fisheries Service (NMFS), National Oceanic and Atmospheric Administration (NOAA), Commerce.

ACTION: Extension of comment period.

SUMMARY: In order to provide additional opportunities for the public, the Atlantic Regional Fishery Management Councils, the Atlantic and Gulf States Marine Fisheries Commissions, and other interested parties to comment on the Essential Fish Habitat Draft Amendment 1 to the 2006 Consolidated Highly Migratory Species (HMS) Fishery Management Plan (FMP), NMFS is extending the comment period for this action. On September 19, 2008, NMFS published a Notice of Availability (NOA) of a draft environmental impact statement and a fishery management plan amendment. Based on the September 19, 2008, notice, the comment period was scheduled to conclude on November 18, 2008. NMFS is now extending the comment period until December 12, 2008. Comments received by NMFS on the Draft Amendment will be used in the development of Final Amendment 1 to the 2006 Consolidated HMS FMP.

DATES: The deadline for comments on Draft Amendment 1 has been extended from November 18, 2008, as published on September 19, 2008 (73 FR 54384), to 5:00 p.m. on December 12, 2008.

ADDRESSES: Written comments on this action should be sent to Chris Rilling, Highly Migratory Species Management Division by any of the following methods:

• E-mail: HMSEFH@noaa.gov.

• Mail: 1315 East-West Highway, Silver Spring, MD 20910. Please mark the outside of the envelope “Comments on EFH Amendment to HMS FMP.”

• Fax: 301-713-1917.

Copies of Draft Amendment 1 to the Consolidated HMS FMP are available from the HMS website under “Breaking News” at http://www.nmfs.noaa.gov/sfa/hms/ or by contacting Chris Rilling (see FOR FURTHER INFORMATION CONTACT).

FOR FURTHER INFORMATION CONTACT: Chris Rilling or Sari Kiraly by phone at (301) 713-2347 or by fax at (301) 713-1917.

SUPPLEMENTARY INFORMATION: The Magnuson-Stevens Act (16 U.S.C. 1801 et seq.) requires the identification and description of EFH in FMPs and the consideration of actions to ensure the conservation and enhancement of such habitat. The EFH regulatory guidelines (50 CFR 600.815) state that NMFS should periodically review and revise EFH, as warranted, based on available information.

Draft Amendment 1 considers alternatives for revising EFH, designating a new Habitat Area of Particular Concern (HAPC) for bluefin tuna spawning areas in the Gulf of Mexico, and analyzes fishing impacts on EFH.

Due to the timing of the South Atlantic Fishery Management Council's meeting at the beginning of December, NMFS is extending the comment period to provide additional opportunity for the South Atlantic Fishery Management Council, and other interested parties to comment on Draft Amendment 1. Copies of Draft Amendment 1 to the Consolidated HMS FMP are available for review (see ADDRESSES). NMFS anticipates completing this document and any related documents by the summer of 2009.

Authority: 16 U.S.C. 1801 et seq.

Dated: November 4, 2008.
Emily H. Menashes
Acting Director, Office of Sustainable Fisheries, National Marine Fisheries Service.

[FR Doc. E8-26852 Filed 11-10-08; 8:45 am]

BILLING CODE 3510-22-S